DEPARTMENT OF AGRICULTURE

Forest Service

Tongass National Forest Wrangell Ranger District; Alaska; Wrangell Island Project Environmental Impact Statement

AGENCY: Forest Service, USDA.

ACTION: Corrected Notice of Intent to prepare an environmental impact statement.

SUMMARY: A Notice of Intent (NOI) was first published for this proposal in the Federal Register (75 FR 81210) on December 27, 2010. This NOI is being published due to the length of time that has passed since the first NOI was published and due to changes made to the Purpose and Need and Proposed Action in response to public input received during the initial scoping period.

DATES: Comments received during the initial scoping period in 2010-2011 will be considered in the preparation of this EIS. New or additional comments must be received by March 15, 2012, 45 days from date of publication of this Corrected NOI in the Federal Register. The draft environmental impact statement is expected in December 2012, and the final environmental impact statement is expected in June 2013.

ADDRESSES: Send written comments to: Tongass National Forest, c/o Tim Piazza, 648 Mission Street, Ketchikan, AK 99901, Attn: Wrangell Island Project EIS. Comments may be hand-delivered to the Wrangell Ranger District, 525 Bennett Drive, Wrangell, AK 99929, Attn: Wrangell Island Project EIS. Comments may also be sent via email to: wrangell_island_project_eis@fs.fed.us, or via facsimile to 907-228-6215, Attn: Wrangell Island Project EIS.

In all correspondence, please include your name, address, and organization name if you are commenting as a representative of an organization.

FOR FURTHER INFORMATION CONTACT: Tim Piazza, Team Leader, Federal Building, Ketchikan, AK 99901, (907) 228-6318; or Austin O'Brien, Wrangell Ranger District, P.O. Box 51, Wrangell, AK 99929, (907) 874-2323.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of the Wrangell Island Project is to respond to the goals and objectives identified by the Forest Plan to guide timber management to support the local and regional economies of Southeast Alaska, while moving the Wrangell Island Project Area towards the desired future condition for all resources.

The underlying need for the Wrangell Island Project comes from the Forest Service's obligation, subject to applicable law, to seek to provide a supply of timber from the Tongass that meets market demand annually and for the planning cycle, and to restore and improve forest resources to a condition where they provide increased benefits to society.

Integrated planning is essential to provide an orderly flow of timber to large and small timber purchasers, mill operators, and value-added wood product industries in Southeast Alaska who contribute to the local and regional economies of Wrangell Island and Southeast Alaska while also improving forest resource conditions. This project will help provide a reliable, long-term supply of timber that will support local jobs and facilitate the transition to a sustainable wood product industry based on young-growth management.

Proposed Action

The Forest Service is proposing a multi-year project involving a variety of timber harvest, road construction, and forest restoration and enhancement activities. The proposed action would include the harvest of timber from up to 6,500 acres of forested land using one or varying sizes of timber sales, offered over a period of years, within the roaded land base on Wrangell Island. Up to 22 miles of National Forest System road and about 30 miles of temporary road would be constructed. Preliminary analysis shows that up to an estimated 80 million board feet of sawtimber and utility wood could be made available to industry for harvest. Existing log transfer facilities would be used as needed. Harvest would include helicopter, ground based, and cable-yarding systems and include even-aged and uneven-aged harvest prescriptions to achieve stand objectives.

Integrated restoration and enhancement activities will include road maintenance and improvements, invasive species treatments, erosion control, fish passage improvements. Other activities may include recreation enhancements, wildlife and fisheries habitat improvements, and subsistence access enhancement. All proposed activities would meet the standards and guidelines of the Tongass Forest Plan.

Possible Alternatives

In addition to the Proposed Action and No Action alternative, the Forest Service is considering a range of action alternatives based on public input received to date. These include an alternative which adjusts Old Growth Reserve (OGR) boundaries to allow timber harvest within the roaded portions of small and medium OGRs on Wrangell Island. This alternative would require a Forest Plan amendment as part of the Decision. Another alternative is being developed by interested citizens and the Borough of Wrangell.

Responsible Official

The responsible official for the decision on this project is the Forest Supervisor, Tongass National Forest, Federal Building, 648 Mission Street, Ketchikan, Alaska 99901.

Nature of Decision To Be Made

The responsible official will decide: (1) The estimated timber volume to make available from the project, as well as the location, design, and scheduling of timber harvest, road construction and reconstruction, and silvicultural practices used; (2) access management measures (road, trail, and area restrictions and closures); (3) mitigation measures and monitoring requirements; and (4) whether there may be a significant restriction on subsistence uses.

Preliminary Issues

The initial scoping identified preliminary issues and concerns which may be analyzed in the EIS to disclose potential effects of the project on the following: timber supply, supporting the timber industry through the transition from old-growth harvest to young-growth management, road and access management, economic and rural stability, wildlife habitat, aquatic habitat (fisheries/hydrology/watersheds), soil productivity and slope stability, invasive species, heritage resources, roadless area characteristics, scenery, recreation, subsistence use, and climate change and carbon cycling.

Preliminary List of Permits or Licenses Required

All necessary permits will be obtained prior to project implementation, and may include the following:

U.S. Environmental Protection Agency

• Review Spill Prevention Control and Countermeasure Plan State of Alaska, Department of Environmental Conservation (DEC):

• Solid Waste Disposal Permit State of Alaska, Department of Natural Resources (DNR):

• Authorization for occupancy and use of tidelands and submerged lands

Scoping Process

The initial scoping period started when the NOI was published in 2010. This proposal has been listed on the Tongass National Forest Schedule of Proposed Actions since January, 2011. There is an opportunity to submit new or additional comments for 45 days after publication of this Corrected NOI. Comments submitted previously will be considered in the analysis.

Public scoping meetings were held in Petersburg and Wrangell, Alaska, on January 11 and 13, 2011, respectively. An updated scoping document has been posted on the Tongass National Forest public Web site at http://www.fs.fed.us/r10/tongass/projects/projects.shtml, and a project update letter will be mailed out to those who previously commented.

It is important that reviewers provide their comments at such times and in such manner that they are useful to the agency's preparation of the environmental impact statement. Therefore, comments should be provided prior to the close of the comment period and should clearly articulate the reviewer's concerns and contentions. Comments received in response to this solicitation, including names and addresses of those who comment, will be part of the public record. Comments submitted anonymously will also be accepted and considered.

Dated: March 5, 2012.
Forrest Cole,
Forest Supervisor, Tongass National Forest.

[FR Doc. 2012-5982 Filed 3-12-12; 8:45 am]

BILLING CODE 3410-11-P